DEPARTMENT OF COMMERCE

International Trade Administration

Fermi Research Alliance LLC, et al., Notice of Decision on Applications for Duty-Free Entry of Scientific Instruments

This is a decision pursuant to Section 6(c) of the Educational, Scientific, and Cultural Materials Importation Act of 1966 (Pub. L. 89-651, as amended by Pub. .106-36; 80 Stat. 897; 15 CFR part 301). Related records can be viewed between 8:30 A.M. and 5:00 P.M. in Room 3705, U.S. Department of Commerce, 14th and Constitution Ave, NW, Washington, D.C.

Comments: None received. Decision: Approved. We know of no instruments of equivalent scientific value to the foreign instruments described below, for such purposes as this is intended to be used, that was being manufactured in the United States at the time of its order.

Docket Number: 09-059. Applicant: Fermi Research Alliance LLC-Fermi National Accelerator Laboratory, Batavia, IL 60510. Instrument: Wavelength Shifting Fiber. Manufacturer: Kuraray Co., Ltd., Japan. Intended Use: See notice at 74 FR 58002, November 10, 2009.

Reasons: The wavelength shifting fibers must be .7mm in diameter and 32 meters in length. Further, the light generated in the fiber must not suffer unacceptable attenuation in traveling down 16-20 m of the WLS fiber. As such, a pertinent characteristic of this instrument is that it have an attenuation length of >20m. We know of no instrument suited to these purposes, which was being manufactured in the United States at the time of order of this instrument.

Docket Number: 09-063. Applicant: Argonne National Laboratory, Lemont, IL 60439. Instrument: CEOS Spherical Aberration Corrector. Manufacturer: CEOS Corrected Electron Optical Systems, GmbH, Germany. Intended Use: See notice at 74 FR 58002, November 10, 2009. Reasons: A pertinent characteristic of this instrument is that it must be capable of compensating completing the spherical aberration of the low field objective lens on the 2100F TEM to which it will be attached. The spherical aberration coefficient of this lens is 200 mm. In addition, the CEOS aberration corrector can compensate this value of spherical aberration while only increasing the chromatic aberration by approximately 20%. We know of no instrument suited to these purposes, which was being manufactured in the United States at the time of order of this instrument.

Dated: December 2, 2009.
Christopher Cassel,
Director, Subsidies Enforcement Office, Import Administration.

[FR Doc. E9-29246 Filed 12-7-09; 8:45 am]

BILLING CODE 3510-DS-S